DEPARTMENT OF ENERGY

Federal Energy Regulatory Commission

Combined Notice of Filings No. 1

June 24, 2010.

Take notice that the Commission received the following electric rate filings:

Docket Numbers: ER99-4124-026.

Applicants: Arizona Public Service Company.

Description: Arizona Public Service Company submits non-material Notice of Change.

Filed Date: 06/24/2010.

Accession Number: 20100624-5104.

Comment Date: 5 p.m. Eastern Time on Thursday, July 15, 2010.

Docket Numbers: ER05-1389-000; ER07-301-000; ER07-645-000.

Applicants: San Juan Mesa Wind Project, LLC; Wildorado Wind, LLC; Sleeping Bear, LLC.

Description: Supplement to Updated Market Power Analysis for the Southwest Power Pool Region of San Juan Mesa Wind Project, LLC, et al.

Filed Date: 06/23/2010.

Accession Number: 20100623-5127.

Comment Date: 5 p.m. Eastern Time on Wednesday, July 14, 2010.

Docket Numbers: ER07-844-007; ER07-845-007; ER07-846-007; ER07-847-007; ER09-629-007; ER99-4160-023.

Applicants: Dynegy Power Marketing, Inc., Dynegy Moss Landing, LLC, Dynegy Morro Bay, LLC, Dynegy Oakland, LLC, Dynegy South Bay, LLC, Dynegy Marketing and Trade, LLC.

Description: Dynegy Marketing and Trade, LLC, et al Updated Market Power Analysis.

Filed Date: 06/23/2010.

Accession Number: 20100623-5128.

Comment Date: 5 p.m. Eastern Time on Monday, August 23, 2010.

Docket Numbers: ER93-3-007.

Applicants: The United Illuminating Company.

Description: United Illuminating Company submits a notice of change in status re their Market-Based Rate authority and a revised Market-Based Rate.

Filed Date: 06/23/2010.

Accession Number: 20100624-0202.

Comment Date: 5 p.m. Eastern Time on Wednesday, July 14, 2010.

Docket Numbers: ER10-1274-001.

Applicants: Consumers Energy Company.

Description: Consumers Energy Company submits tariff filing per 35: Power Sales Tariff Of Consumers Energy Company to be effective 6/10/2010.

Filed Date: 06/10/2010.

Accession Number: 20100610-5079.

Comment Date: 5 p.m. Eastern Time on Thursday, July 01, 2010.

Docket Numbers: ER10-1530-000.

Applicants: Llano Estacado Wind, LLC.

Description: Llano Estacado Wind, LLC submits tariff filing per 35.12: Baseline Filing of Llano Estacado Wind, LLC to be effective 6/23/2010.

Filed Date: 06/23/2010.

Accession Number: 20100623-5095.

Comment Date: 5 p.m. Eastern Time on Wednesday, July 14, 2010.

Docket Numbers: ER10-1531-000.

Applicants: Entergy Nuclear Power Marketing, LLC.

Description: Entergy Nuclear Power Marketing, LLC submits tariff filing per 35.12: Baseline Filing of ENPM to be effective 6/23/2010.

Filed Date: 06/23/2010.

Accession Number: 20100623-5104.

Comment Date: 5 p.m. Eastern Time on Wednesday, July 14, 2010.

Docket Numbers: ER10-1532-000.

Applicants: Entergy Nuclear Palisades, LLC.

Description: Entergy Nuclear Palisades, LLC submits tariff filing per 35.12: Baseline Filing of Entergy Nuclear Palisades, LLC to be effective 6/23/2010.

Filed Date: 06/23/2010.

Accession Number: 20100623-5116.

Comment Date: 5 p.m. Eastern Time on Wednesday, July 14, 2010.

Docket Numbers: ER10-1533-000.

Applicants: Macquarie Energy LLC.

Description: Macquarie Energy LLC submits tariff filing per 35.12: Macquarie Energy LLC MBR and Reassignment Tariffs to be effective 6/23/2010.

Filed Date: 06/23/2010.

Accession Number: 20100623-5118.

Comment Date: 5 p.m. Eastern Time on Wednesday, July 14, 2010.

Docket Numbers: ER10-1534-000.

Applicants: Pacific Gas and Electric Company.

Description: Notice of Termination of Certain Agreements with Big Creek Water Works, Ltd. and Pacific Gas and Electric Company.

Filed Date: 06/24/2010.

Accession Number: 20100624-5016.

Comment Date: 5 p.m. Eastern Time on Thursday, July 15, 2010.

Docket Numbers: ER10-1535-000.

Applicants: ISO New England Inc. & New England Power.

Description: ISO New England Inc et al submits Sheet No 7201E to FERC Electric Tariff No 3 and its supporting testimony of Shannon L Hann re revisions to the settlement procedures for the Meter Data Error Correction Request etc.

Filed Date: 06/23/2010.

Accession Number: 20100624-0203.

Comment Date: 5 p.m. Eastern Time on Wednesday, July 14, 2010.

Docket Numbers: ER10-1536-000.

Applicants: Dyon LLC.

Description: Dyon LLC submits tariff filing per 35.12: Dyon, LLC FERC Electric Tariff to be effective 6/24/2010.

Filed Date: 06/24/2010.

Accession Number: 20100624-5044.

Comment Date: 5 p.m. Eastern Time on Thursday, July 15, 2010.

Docket Numbers: ER10-1537-000.

Applicants: Entergy Nuclear FitzPatrick, LLC.

Description: Entergy Nuclear FitzPatrick, LLC submits its baseline market-based rate tariff filing, to be effective 6/24/2010.

Filed Date: 06/24/2010.

Accession Number: 20100624-5046.

Comment Date: 5 p.m. Eastern Time on Thursday, July 15, 2010.

Docket Numbers: ER10-1539-000.

Applicants: Entergy Nuclear Indian Point 3, LLC.

Description: Entergy Nuclear Indian Point 3, LLC submits tariff filing per 35.12: Baseline Filing of ENIP3 to be effective 6/24/2010.

Filed Date: 06/24/2010.

Accession Number: 20100624-5075.

Comment Date: 5 p.m. Eastern Time on Thursday, July 15, 2010.

Docket Numbers: ER10-1540-000.

Applicants: Entergy Nuclear Vermont Yankee, LLC.

Description: Entergy Nuclear Vermont Yankee, LLC submits tariff filing per 35.12: Baseline Filing of ENVY to be effective 6/24/2010.

Filed Date: 06/24/2010.

Accession Number: 20100624-5078.

Comment Date: 5 p.m. Eastern Time on Thursday, July 15, 2010.

Docket Numbers: ER10-1541-000.

Applicants: Entergy Power, LLC.

Description: Entergy Power, LLC submits tariff filing per 35.12: Baseline Filing of Entergy Power, LLC to be effective 6/24/2010.

Filed Date: 06/24/2010.

Accession Number: 20100624-5080.

Comment Date: 5 p.m. Eastern Time on Thursday, July 15, 2010.

Docket Numbers: ER10-1542-000.

Applicants: Entergy Power Ventures, L.P.

Description: Entergy Power Ventures, L.P. submits tariff filing per 35.12: Baseline Filing of Entergy Power Ventures, L.P. to be effective 6/24/2010.

Filed Date: 06/24/2010.

Accession Number: 20100624-5081.

Comment Date: 5 p.m. Eastern Time on Thursday, July 15, 2010.

Docket Numbers: ER10-1543-000.

Applicants: Choctaw Gas Generation, LLC.

Description: Choctaw Gas Generation, LLC submits tariff filing per 35.12: Baseline eTariff Filing to be effective 6/24/2010.

Filed Date: 06/24/2010.

Accession Number: 20100624-5082.

Comment Date: 5 p.m. Eastern Time on Thursday, July 15, 2010.

Docket Numbers: ER10-1544-000.

Applicants: Choctaw Generation Limited Partnership.

Description: Choctaw Generation Limited Partnership submits tariff filing per 35.12: Baseline eTariff Filing to be effective 6/24/2010.

Filed Date: 06/24/2010.

Accession Number: 20100624-5084.

Comment Date: 5 p.m. Eastern Time on Thursday, July 15, 2010.

Docket Numbers: ER10-1546-000.

Applicants: GDF SUEZ Energy Marketing NA, Inc.

Description: GDF SUEZ Energy Marketing NA, Inc. submits tariff filing per 35.12: Baseline eTariff Filing to be effective 6/24/2010.

Filed Date: 06/24/2010.

Accession Number: 20100624-5087.

Comment Date: 5 p.m. Eastern Time on Thursday, July 15, 2010.

Docket Numbers: ER10-1547-000.

Applicants: Hopewell Cogeneration Limited Partnership.

Description: Hopewell Cogeneration Limited Partnership submits tariff filing per 35.12: Baseline eTariff Filing to be effective 6/24/2010.

Filed Date: 06/24/2010.

Accession Number: 20100624-5096.

Comment Date: 5 p.m. Eastern Time on Thursday, July 15, 2010.

Docket Numbers: ER10-1549-000.

Applicants: Hot Spring Power Company, LLC.

Description: Hot Spring Power Company, LLC submits tariff filing per 35.12: Baseline eTariff Filing to be effective 6/24/2010.

Filed Date: 06/24/2010.

Accession Number: 20100624-5098.

Comment Date: 5 p.m. Eastern Time on Thursday, July 15, 2010.

Docket Numbers: ER10-1550-000.

Applicants: Northeastern Power Company.

Description: Northeastern Power Company submits tariff filing per 35.12: Baseline eTariff Filing to be effective 6/24/2010.

Filed Date: 06/24/2010.

Accession Number: 20100624-5100.

Comment Date: 5 p.m. Eastern Time on Thursday, July 15, 2010.

Docket Numbers: ER10-1551-000.

Applicants: Syracuse Energy Corporation.

Description: Syracuse Energy Corporation submits tariff filing per 35.12: Baseline eTariff Filing to be effective 6/24/2010.

Filed Date: 06/24/2010.

Accession Number: 20100624-5102.

Comment Date: 5 p.m. Eastern Time on Thursday, July 15, 2010.

Any person desiring to intervene or to protest in any of the above proceedings must file in accordance with Rules 211 and 214 of the Commission's Rules of Practice and Procedure (18 CFR 385.211 and 385.214) on or before 5:00 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-16633 Filed 7-7-10; 8:45 am]

BILLING CODE 6717-01-P